DEPARTMENT OF EDUCATION

Applications for New Awards; Rural Postsecondary and Economic Development Grant Program

AGENCY: Office of Postsecondary Education, Department of Education.

ACTION: Notice.

SUMMARY: The Department of Education (Department) is issuing a notice inviting applications for fiscal year (FY) 2023 for the Rural Postsecondary and Economic Development (RPED) Grant Program, conducted under the Fund for the Improvement of Postsecondary Education (FIPSE), Assistance Listing Number 84.116W. This notice relates to the approved information collection under OMB control number 1894-0006.

DATES:

Applications Available: April 18, 2023.

Deadline for Transmittal of Applications: June 20, 2023.

Deadline for Intergovernmental Review: August 16, 2023.

ADDRESSES: For the addresses for obtaining and submitting an application, please refer to our Common Instructions for Applicants to Department of Education Discretionary Grant Programs, published in the Federal Register on December 7, 2022 (87 FR 75045), and available at www.federalregister.gov/d/2022-26554. Please note that these Common Instructions supersede the version published on December 27, 2021.

FOR FURTHER INFORMATION CONTACT: Kurrinn Abrams, U.S. Department of Education, 400 Maryland Avenue SW, Washington, DC 20202-4260. Telephone: (202) 987-1920. Email: kurrinn.abrams2@ed.gov.

If you are deaf, hard of hearing, or have a speech disability and wish to access telecommunications relay services, please dial 7-1-1.

SUPPLEMENTARY INFORMATION:

Full Text of Announcement

I. Funding Opportunity Description

Purpose of Program: The purpose of the RPED Grant Program is to improve rates of postsecondary enrollment, persistence, and completion among rural students through development of career pathways aligned to high-skill, high-wage, and in-demand industry sectors and occupations in the region.

Background: Rural students account for 9.7 million—about 19 percent—of public elementary and secondary school students in the United States and face many challenges accessing postsecondary education.¹ According to data from the National Center for Education Statistics (NCES), only 29 percent of individuals from rural areas who are between the ages of 18 and 24 are enrolled in higher education, compared to almost 48 percent of individuals in that age range who come from urban areas and 42 percent from suburban areas.² In fact, an analysis of National Education Longitudinal Study data found urban students nationally were 74 percent more likely to enroll in college than rural students and 106 percent more likely than rural students to attain a bachelor's degree.³

¹ nces.ed.gov/programs/digest/d20/tables/dt20_203.72.asp?current=yes.

² nces.ed.gov/surveys/ruraled/tables/b.3.b.-1.asp.

³ files.eric.ed.gov/fulltext/ED557072.pdf.

For rural students, and particularly low-income and underserved rural students, barriers to accessing postsecondary education include difficulties in accessing high speed internet, transportation, child care, and healthcare; as well as challenges of experiencing poverty, food insecurity, and housing insecurity. Furthermore, many rural students who do decide to attend college are first-generation students who lack sufficient college preparation in high school,⁴ and are unfamiliar with the inner workings of postsecondary institutions, including the college application process and how to finance a college education.⁵ These students may feel underprepared for higher education and typically face challenges once in college; many experience hurdles that leave them unable to complete their programs.⁶ Accordingly, these inequities in college readiness and knowledge may discourage individuals from underserved student populations from continuing their education beyond high school.⁷ These and other challenges may negatively affect rural students' ability to be academically successful and in turn be competitive in the job market.⁸

⁴ files.eric.ed.gov/fulltext/EJ1101249.pdf.

⁵ files.eric.ed.gov/fulltext/EJ1193574.pdf.

⁶ files.eric.ed.gov/fulltext/EJ1193574.pdf.

⁷ files.eric.ed.gov/fulltext/ED557072.pdf.

⁸ files.eric.ed.gov/fulltext/EJ1101249.pdf.

Many of these challenges result from geographic isolation, distance from services, and a lack of resources and institutions to support community members. Rural communities are often located in education deserts, which may limit students' exposure or convenient access to postsecondary institutions.⁹ For many rural students, transportation is a barrier to accessing colleges where they can earn a bachelor's degree, and thus they begin their postsecondary education at 2-year colleges.¹⁰

⁹ files.eric.ed.gov/fulltext/EJ1193574.pdf.

¹⁰ edsource.org/2019/too-far-away-distance-is-a-barrier-to-bachelors-degrees-for-rural-community-college-students/621189.

For rural students who do attend postsecondary education, research has shown that rural high school graduates were more likely to enroll in 2-year colleges (44 percent) compared to their urban counterparts (39 percent). However, even after controlling for differences in academic achievement, poverty, and distance between high schools and colleges, students who graduate from rural high schools are still more likely than students who graduate from nonrural schools to enroll in a 2-year rather than a 4-year college.¹¹ In academic year 2018-2019 alone, there were 298 public community and technical colleges that were designated by NCES with the rural locale designations rural fringe (41), rural distant (42), or rural remote (43). In the same academic year, these colleges enrolled 84.8 percent of the 1.14 million undergraduates attending rural postsecondary institutions.¹²

¹¹ files.eric.ed.gov/fulltext/ED557072.pdf.

¹² journals.sagepub.com/doi/10.1177/00915521221087280.

To overcome these barriers, many States are beginning to introduce early college programs that expose secondary students to postsecondary education and improve their college readiness, often through creating partnerships with community colleges.¹³ Research has shown that 2-year colleges play a significant role in postsecondary access for rural students and create a broader set of entry points to 4-year schools for many students who cannot afford or access 4-year institutions upon high school graduation. Furthermore, 2-year institutions have been shown to enroll a higher number of traditionally underserved students, such as minority students, working-class students, and first-generation college students.¹⁴ Although there are many barriers that do play a significant role in postsecondary access for rural students, it is important to highlight the role 2-year institutions can play in helping rural students succeed academically and transition into a career.¹⁵

¹³ journals.sagepub.com/doi/abs/10.1177/0091552119898880.

¹⁴ link.springer.com/content/pdf/10.1007/s11162-017-9449-z.pdf?pdf=button.

¹⁵ link.springer.com/content/pdf/10.1007/s11162-017-9449-z.pdf?pdf=button.

Furthermore, higher education attainment is correlated with increased career opportunities, higher individual lifetime earnings, better quality of life, and positive contributions to society.¹⁶ Therefore, it is critical to undertake efforts that better prepare students in rural communities for the changing needs of the current workforce, and to create a more skilled workforce that will attract better jobs and provide economic support to the community. Such improvements in the educational outcomes for rural communities highlight the need for partnerships between schools and Federal, State, or local agencies or community-based organizations that can help students succeed both academically and in their career. However, many rural areas have fewer resources with which to access services and partnerships that are key to quality rural education. Research shows that creating partnerships can “help schools get assistance with special resource needs; supplement classroom learning; understand the business world, its resources, its requirements, and its concerns; and gain expertise in technical and management areas. The private sector and community organizations can also provide rural schools with tutoring, apprenticeships, speakers, equipment, scholarships, and motivation.” ¹⁷ Therefore, institutions in rural communities must be given the tools to develop strategies and plans that best serve their population of rural students.¹⁸

¹⁶ files.eric.ed.gov/fulltext/EJ1101249.pdf.

¹⁷ eric.ed.gov/?id=ED243621#:~:text=Because%20rural%20areas%20have%20fewer%20resources%20with%20which,public%20sectors%20are%20essential%20to%20quality%20rural%20education.

¹⁸ files.eric.ed.gov/fulltext/EJ1101249.pdf.

Rural postsecondary institutions, specifically 2-year rural postsecondary institutions, are best positioned to enhance and develop programs that improve the preparation, support, and retention of rural students in higher education, and that help them to graduate from college and transition into in-demand and well-paying occupations. To this end, the RPED Grant Program is designed to support postsecondary enrollment and completion by addressing the challenges rural students face accessing postsecondary education that will prepare them for high-skill, high-wage, and in-demand occupations.

Priorities: This notice contains two absolute priorities, one competitive preference priority, and three invitational priorities. Absolute Priority 1 is from the Administrative Priorities for Discretionary Grant Programs published in the Federal Register on March 9, 2020 (85 FR 13640) (Administrative Priorities). Absolute Priority 2 and the competitive preference priority are from the Secretary's Supplemental Priorities and Definitions for Discretionary Grants Programs, published in the Federal Register on December 10, 2021 (86 FR 70612) (Supplemental Priorities).

Absolute Priorities: For FY 2023, and any subsequent year in which we make awards from the list of unfunded applications from this competition, these priorities are absolute priorities. Under 34 CFR 75.105(c)(3), we consider only applications that meet each of these priorities.

These priorities are:

Absolute Priority 1—Rural Applicants

Under this priority, an applicant must demonstrate one or more of the following:

(a) The applicant proposes to serve a community that is served by one or more LEAs with a locale code of 32, 33, 41, 42, or 43;

(b) The applicant proposes a project in which a majority of the schools served have a locale code of 32, 33, 41, 42, or 43;

(c) The applicant is an institution of higher education (IHE) with a rural campus setting, or the applicant proposes to serve a campus with a rural setting. Rural settings include any of the following: Town-Fringe, Town-Distant, Town-Remote, Rural Fringe, Rural-Distant, Rural-Remote, as defined by the NCES College Navigator search tool.

Note: Applicants are encouraged to retrieve locale codes from the NCES School District search tool (https://nces.ed.gov/ccd/districtsearch/), where LEAs can be looked up individually to retrieve locale codes, and the Public School search tool (https://nces.ed.gov/ccd/schoolsearch/), where individual schools can be looked up to retrieve locale codes. Applicants are encouraged to retrieve campus settings from the NCES College Navigator search tool (https://nces.ed.gov/collegenavigator/) where IHEs can be looked up individually to determine the campus setting.

Absolute Priority 2—Increasing Postsecondary Education Access, Affordability, Completion, and Post-Enrollment Success

Projects that are designed to increase postsecondary access, affordability, completion, and success for underserved students by addressing one or more of the following priority areas:

(a) Increasing postsecondary education access and reducing the cost of college by creating clearer pathways for students between institutions and making transfer of course credits more seamless and transparent.

(b) Increasing the number and proportion of underserved students who enroll in and complete postsecondary education programs, which may include strategies related to college preparation, awareness, application, selection, advising, counseling, and enrollment.

(c) Supporting the development and implementation of student success programs that integrate multiple comprehensive and evidence-based services or initiatives, such as academic advising, structured/guided pathways, career services, credit-bearing academic undergraduate courses focused on career, and programs to meet basic needs, such as housing, child care and transportation, student financial aid, and access to technological devices.

(d) Supporting the development and implementation of high-quality and accessible learning opportunities, including learning opportunities that are accelerated or hybrid online; credit-bearing; work-based; and flexible for working students.

(e) Supporting the development and implementation of evidence-based strategies to promote students' development of knowledge and skills necessary for success in the workforce and civic life.

(f) Providing secondary school students with access to career exploration and advising opportunities to help students make informed decisions about their postsecondary enrollment decisions and to place them on a career path.

Competitive Preference Priority: For FY 2023, and any subsequent year in which we make awards from the list of unfunded applications from this competition, this priority is a competitive preference priority. Under 34 CFR 75.105(c)(2)(i), we award up to an additional 10 points to an application, depending on how well the application meets this priority, which encompasses up to 5 points per subcomponent described below.

This priority is:

Strengthening Cross-Agency Coordination and Community Engagement To Advance Systemic Change (Up to 10 Points)

Projects that are designed to take a systemic evidence-based approach to improving outcomes for underserved students in coordinating efforts with Federal, State, or local agencies, or community-based organizations, that support students, to address college readiness (Up to 5 points), workforce development (Up to 5 points), or both.

Invitational Priorities: For FY 2023, and any subsequent year in which we make awards from the list of unfunded applications from this competition, these priorities are invitational priorities. Under 34 CFR 75.105(c)(1), we do not give an application that meets these invitational priorities a competitive or absolute preference over other applications.

These priorities are:

Invitational Priority 1—Supporting Secondary Students To Access Postsecondary Education

Projects that are designed to provide long-term academic and career advising relationships, and exposure to postsecondary opportunities to students as early as 8th grade to support them through their transition to postsecondary education, including potential transitions from 2- to 4-year programs.

Invitational Priority 2—Supporting the Development of Academic Programs With Career Pathways

Projects that include partnerships with regional economic development or workforce agencies, regional employers, or other relevant nonprofit organizations and support alignment of academic programs with, and development of, high-quality career pathways aligned to high-skill, high-wage, and in-demand industry sectors and occupations in the region.

Invitational Priority 3—Supporting Transition From Community College to a 4-Year Institution of Higher Education

Projects that are designed to provide strategies for developing and maintaining long-term academic and career advising relationships with community college students to support them through their transition to a 4-year IHE.

Definitions: For FY 2023 and any subsequent year in which we make awards from the list of unfunded applications from this competition, the following definitions apply. The definition of “in-demand industry sector or occupation” is from section 3(23) of the Workforce Innovation and Opportunity Act of 2014 (WIOA). The definitions of “demonstrates a rationale,” “evidence-based,” “logic model,” “project component,” and “relevant outcome” are from 34 CFR 77.1. The definitions of “disconnected youth,” “English learner,” “underserved student”, and “child or student with a disability” are from the Supplemental Priorities.

Demonstrates a rationale means a key project component included in the project's logic model is informed by research or evaluation findings that suggest the project component is likely to improve relevant outcomes.

Disconnected youth means an individual, between the ages 14 and 24, who may be from a low-income background, experiences homelessness, is in foster care, is involved in the justice system, or is not working or not enrolled in (or at risk of dropping out of) an educational institution.

English learner means an individual who is an English learner as defined in section 8101(20) of the Elementary and Secondary Education Act of 1965, as amended, or an individual who is an English language learner as defined in section 203(7) of the Workforce Innovation and Opportunity Act.

Evidence-based means the proposed project component is supported by evidence that demonstrates a rationale.

In-demand industry sector or occupation means—

(a) In General. (i) An industry sector that has a substantial current or potential impact (including through jobs that lead to economic self-sufficiency and opportunities for advancement) on the State, regional, or local economy, as appropriate, and that contributes to the growth or stability of other supporting businesses, or the growth of other industry sectors; or

(ii) An occupation that currently has or is projected to have a number of positions (including positions that lead to economic self-sufficiency and opportunities for advancement) in an industry sector so as to have a significant impact on the State, regional, or local economy, as appropriate.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/index.asp. Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Underserved student means a student (which may include students in K-12 programs and students in postsecondary education or career and technical education) in one or more of the following subgroups:

(a) A student who is living in poverty or is served by schools with high concentrations of students living in poverty.

(b) A student of color.

(c) A student who is a member of a federally recognized Indian Tribe.

(d) An English learner (as defined in this notice).

(e) A child or student with a disability (as defined in this notice).

(f) A disconnected youth (as defined in this notice).

(g) A technologically unconnected youth.

(h) A student experiencing homelessness or housing insecurity.

(i) A pregnant, parenting, or caregiving student.

(j) A student who is the first in their family to attend postsecondary education.

(k) A student enrolling in or seeking to enroll in postsecondary education for the first time at the age of 20 or older.

(l) A student who is working full-time while enrolled in postsecondary education.

(m) A student who is enrolled in or is seeking to enroll in postsecondary education who is eligible for a Pell Grant.

(n) A student performing significantly below grade level.

For the purpose of the definition of underserved student only—

Child or student with a disability means children with disabilities as defined in section 602(3) of the Individuals with Disabilities Education Act (IDEA) (20 U.S.C. 1401(3)) and 34 CFR 300.8, or students with disabilities, as defined in the Rehabilitation Act of 1973 (29 U.S.C. 705(37), 705(202) (B)).

Program Authority: 20 U.S.C. 1138-1138d; the Explanatory Statement accompanying Division H of the Consolidated Appropriations Act, 2023 (Pub. L. 117-328).

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Administrative Priorities. (e) The Supplemental Priorities.

II. Award Information

Type of Award: Discretionary grant.

Estimated Available Funds: $44,550,000.

Contingent upon the availability of funds and the quality of applications, we may make additional awards in subsequent years from the list of unfunded applications from this competition.

Estimated Range of Awards: $1,782,000 to $2,227,500.

Estimated Average Size of Awards: $1,900,000.

Maximum Award: $2,227,500. We will not make an award exceeding $2,227,500 for a single budget period of 48 months.

Note: The maximum award is based on a 4-year budget period. Applicants will need to prepare a multiyear budget request for up to 4 years.

Estimated Number of Awards: 23.

Note: The Department is not bound by any estimates in this notice.

Project Period: Up to 48 months.

III. Eligibility Information

1. Eligible Applicants: Eligible applicants are IHEs (as defined in section 101 of the HEA (20 U.S.C. 1001)) that are public or private nonprofit IHEs, and public and private nonprofit organizations and agencies that partner with IHEs.

2. a. Cost Sharing or Matching: This competition does not require cost sharing or matching.

b. Supplement-Not-Supplant: This program does not involve supplement-not-supplant funding requirements.

c. Indirect Cost Rate Information: This program uses an unrestricted indirect cost rate. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: Under 34 CFR 75.708(b) and (c) a grantee under this competition may award subgrants—to directly carry out project activities described in its application—to entities listed in the grant application.

IV. Application and Submission Information

1. Application Submission Instructions: Applicants are required to follow the Common Instructions for Applicants to Department of Education Discretionary Grant Programs, published in the Federal Register on December 7, 2022 (87 FR 75045), and available at www.federalregister.gov/d/2022-26554, which contain requirements and information on how to submit an application. Please note that these Common Instructions supersede the version published on December 27, 2021.

2. Intergovernmental Review: This program is subject to Executive Order 12372 and the regulations in 34 CFR part 79. Information about Intergovernmental Review of Federal Programs under Executive Order 12372 is in the application package for this program.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, except titles, headings, footnotes, quotations, references, and captions.

• Use a font that is either 12 point or larger or no smaller than 10 pitch (characters per inch).

• Use one of the following fonts: Times New Roman, Courier, Courier New, or Arial.

The recommended 50-page limit applies only to the application narrative and does not apply to Part I, the cover sheet; Part II, the budget section, including the narrative budget justification; Part IV, the assurances and certifications; or the one-page abstract, the resumes, the bibliography, or the letters of support. We recommend that any application addressing the priorities include no more than three additional pages for each priority addressed.

5. Program Profile: Applicants must indicate in the recommended one-page abstract how the proposed project meets the absolute priorities, including the relevant NCES locale codes, and, if applicable, the competitive preference priority and invitational priorities. The abstract narrative should identify the target population (e.g., faculty, staff, students), the services that will be provided, and the proposed activities to be conducted during the 4-year performance period. It should also include anticipated results and citations, if applying for competitive priority points.

V. Application Review Information

1. Selection Criteria: The selection criteria for this program are from 34 CFR 75.210. Applicants should address each of the selection criteria. The points assigned to each criterion are indicated in the parentheses next to the criterion. An applicant may earn up to a total of 100 points based on the selection criteria and up to 10 additional points under the competitive preference priority, for a total score of up to 110 points. All applications will be evaluated based on the selection criteria as follows:

(a) Quality of the project design. (Maximum 35 points)

(1) The Secretary considers the quality of the design of the proposed project.

(2) In determining the quality of the design of the proposed project, the Secretary considers the following factors:

(i) The extent to which the goals, objectives, and outcomes to be achieved by the proposed project are clearly specified and measurable. (Up to 10 points)

(ii) The extent to which the design of the proposed project is appropriate to, and will successfully address, the needs of the target population or other identified needs. (Up to 10 points)

(iii) The extent to which the design of the proposed project includes a thorough, high-quality review of the relevant literature, a high-quality plan for project implementation, and the use of appropriate methodological tools to ensure successful achievement of project objectives. (Up to 5 points)

(iv) The extent to which the proposed project demonstrates a rationale (as defined in this notice). (Up to 5 points)

(v) The extent to which the proposed project is designed to build capacity and yield results that will extend beyond the period of Federal financial assistance. (Up to 3 points)

(vi) The extent to which the services to be provided by the proposed project involve the collaboration of appropriate partners for maximizing the effectiveness of project services. (Up to 2 points)

(b) Quality of the management plan. (Maximum 35 points)

(1) The Secretary considers the quality of the management plan for the proposed project.

(2) In determining the quality of the management plan, the Secretary considers the following factors:

(i) The adequacy of the management plan to achieve the objectives of the proposed project on time and within budget, including clearly defined responsibilities, timelines, and milestones for accomplishing project tasks. (Up to 10 points)

(ii) The extent to which the costs are reasonable in relation to the number of persons to be served and to the anticipated results and benefits. (Up to 5 points)

(iii) The adequacy of mechanisms for ensuring high-quality products and services from the proposed project. (Up to 5 points)

(iv) The adequacy of procedures for ensuring feedback and continuous improvement in the operation of the proposed project. (Up to 5 points)

(v) The extent to which the time commitments of the project director and principal investigator and other key project personnel are appropriate and adequate to meet the objectives of the proposed project. (Up to 10 points)

(c) Adequacy of resources. (Maximum 10 points)

(1) The Secretary considers the adequacy of resources for the proposed project.

(2) In determining the adequacy of resources for the proposed project, the Secretary considers the following factors:

(i) The adequacy of support, including facilities, equipment, supplies, and other resources, from the applicant organization or the lead applicant organization. (Up to 5 points)

(ii) The relevance and demonstrated commitment of each partner in the proposed project to the implementation and success of the project. (Up to 5 points)

(d) Quality of the project evaluation. (Maximum 20 points)

(1) The Secretary considers the quality of the evaluation to be conducted of the proposed project.

(2) In determining the quality of the evaluation, the Secretary considers:

(i) The extent to which the methods of evaluation are thorough, feasible, and appropriate to the goals, objectives, and outcomes of the proposed project. (Up to 10 points)

(ii) The extent to which the methods of evaluation provide for examining the effectiveness of project implementation strategies. (Up to 10 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances, including those applicable to Federal civil rights laws that prohibit discrimination in programs or activities receiving Federal financial assistance from the Department (34 CFR 100.4, 104.5, 106.4, 108.8, and 110.23).

For this competition, a panel of external reviewers will read, prepare a written evaluation of, and score all eligible applications using the selection criteria and the competitive preference priority, if applicable, provided in this notice. The individual scores of the reviewers will be added and the sum divided by the number of reviewers to determine the peer review score. The Department may use more than one tier of reviews in evaluating grantees. The Department will prepare a rank order of applications based solely on the evaluation of their quality according to the selection criteria and competitive preference priority points.

Tiebreaker. In the event there are two or more applications with the same final score, and there are insufficient funds to fully support each of these applications, the Department will apply the following procedure to determine which application or applications will receive an award:

First Tiebreaker: The first tiebreaker will be the highest average score for the selection criterion “Quality of the Project Design”. If a tie remains, the second tiebreaker will be utilized.

Second Tiebreaker: The second tiebreaker will be the highest average score for the selection criterion “Quality of the Management Plan.” If a tie remains, the third tiebreaker will be utilized.

Third Tiebreaker: The third tiebreaker will be the highest average score for the selection criterion “Quality of the Project Evaluation.” If a tie remains, the fourth tiebreaker will be utilized.

Fourth Tiebreaker: The fourth tiebreaker will be the applicant that serves the highest number of LEAs, schools, and/or institutions located in a rural area as identified by the rural locale codes outlined in Absolute Priority 1. Please refer to the NCES locale lookup map: https://nces.ed.gov/programs/maped/LocaleLookup/.

3. Risk Assessment and Specific Conditions: Consistent with 2 CFR 200.206, before awarding grants under this competition, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For purposes of Department reporting under 34 CFR 75.110, the Department will use the following performance measures to evaluate the success of the RPED Grants Program:

a. The number of rural students that received direct student services supported by the grant.

b. The change in the annual enrollment rate at grantee institutions of rural students that received direct student services supported by the grant from one year to the next.

c. The number of rural students that received direct student services supported by the grant that transfer to a 4-year institution or obtain a degree or certificate of completion.

d. The number of rural students that received direct student services supported by the grant who obtain an internship, apprenticeship, or employment.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Nasser Paydar,
Assistant Secretary for Postsecondary Education.

[FR Doc. 2023-08173 Filed 4-17-23; 8:45 am]

BILLING CODE 4000-01-P